OFFICE OF SCIENCE AND TECHNOLOGY POLICY

Task Force on High End Computing; Notice of Request for Information

AGENCY: Office of Science and Technology Policy.

ACTION: Request for information.

SUMMARY: A task force on high end computing, through the National Coordination Office for Information Technology Research and Development under the National Science and Technology Council, invites the public to submit white papers relative to the task force's charge. The task force was established in March 2003 to implement planning activities in high end computing, as set forth in the President's 2004 budget. Additional information on the task force's charge is provided below. Details on the invitation to submit white papers on high end computing, can be found at: http://www.itrd.gov/hecrtf-outreach/.

DATES: Information must be received by May 21, 2003.

ADDRESSES: Responses to this request for information should be addressed to High End Computing Revitalization Task Force, National Coordination Office for Information Technology Research and Development, 4201 Wilson Blvd, Suite II-405, Arlington, VA 22230, PH: (703) 292-ITRD (4873), FAX: (703) 292-9097, hecrtf-outreach@nitrd.gov.

FOR FURTHER INFORMATION CONTACT: Dave Nelson at (703) 292-4873.

SUPPLEMENTARY INFORMATION: The High Computing Revitalization Task Force (HECRTF) was established in March 2003 to perform the tasks described in the following text that appears on page 177 in the Research and Development chapter of the FY 2004 Budget of the U.S. Government Analytical Perspectives:

“Due to its impact on a wide range of federal agency missions ranging from national security and defense to basic science, high end computing—or supercomputing—capability is becoming increasingly critical. Through the course of 2003, agencies involved in developing or using high end computing will be engaged in planning activities to guide future investments in this area, coordinated through the NSTC. The activities will include the development of interagency R&D roadmap for high-end computing core technologies, a federal high-end computing capacity and accessibility improvement plan, and a discussion of issues (along with recommendations where applicable) relating to federal procurement of high-end computing systems. The knowledge gained for this process will be used to guide future investments in this area. Research and software to support high end computing will provide a foundation for future federal R&D by improving the effectiveness of core technologies on which next-generation high-end computing systems will rely.”

Stanley S. Sokul,
Counsel, Office of Science and Technology Policy.

[FR Doc. 03-12177 Filed 5-13-03; 8:45 am]

BILLING CODE 3170-01-P